DEPARTMENT OF COMMERCE

National Oceanic and Atmospheric Administration

15 CFR Part 922

Office of National Marine Sanctuaries Final Policy and Permit Guidance for Submarine Cable Projects

AGENCY: Office of National Marine Sanctuaries (ONMS), National Oceanic and Atmospheric Administration (NOAA), Department of Commerce (DOC).

ACTION: Notice of availability; response to comments.

SUMMARY: The Office of National Marine Sanctuaries (ONMS) has developed final policy and permitting guidance for submarine cable projects proposed in national marine sanctuaries. This action identifies the criteria the ONMS will use to ensure that applications to install and maintain submarine cables in sanctuaries are reviewed consistently and in a manner that adheres to the National Marine Sanctuaries Act and ONMS regulations (15 CFR part 922). The ONMS is releasing its final policy and permitting guidance, and responding to comments on the interim policy.

DATES: This notice of availability is effective as a final policy as of September 15, 2011.

ADDRESSES: Copies of the final policy and permit guidance for submarine cable projects may be viewed and downloaded at http://sanctuaries.noaa.gov/library/welcome.html. You may also request a copy of the final policy by contacting Vicki Wedell, NOAA, Office of National Marine Sanctuaries, 1305 East-West Highway, (N/NMS2), 11th Floor, Silver Spring, Maryland 20910.

FOR FURTHER INFORMATION CONTACT: Vicki Wedell, (301) 713-3125.

Dated: September 6, 2011.
Daniel J. Basta,
Director, Office of National Marine Sanctuaries.

[FR Doc. 2011-23625 Filed 9-14-11; 8:45 am]

BILLING CODE 3510-NK-P